DEPARTMENT OF TRANSPORTATION

Surface Transportation Board

[STB Ex Parte No. 670 (Sub-No. 1)]

Notice of Rail Energy Transportation Advisory Committee Meeting

AGENCY: Surface Transportation Board, DOT.

ACTION: Notice of Rail Energy Transportation Advisory Committee meeting.

SUMMARY: Notice is hereby given of a meeting of the Rail Energy Transportation Advisory Committee (RETAC), pursuant to section 10(a)(2) of the Federal Advisory Committee Act, Public Law No. 92-463, as amended (5 U.S.C., App. 2).

DATES: The meeting will be held on Thursday, June 11, 2009, beginning at 9 a.m., E.D.T.

ADDRESSES: The meeting will be held in the Hearing Room on the first floor of the Surface Transportation Board's headquarters at Patriot's Plaza, 395 E Street, SW., Washington, DC 20423-0001.

FOR FURTHER INFORMATION CONTACT: Scott M. Zimmerman (202) 245-0202 or Anika S. Cooper (202) 245-0212. Assistance for the hearing impaired is available through the Federal Information Relay Service (FIRS) at: (800) 877-8339.

SUPPLEMENTARY INFORMATION: RETAC arose from a proceeding instituted by the Board, in Establishment of a Rail Energy Transportation Advisory Committee, STB Ex Parte No. 670. RETAC was formed to provide advice and guidance to the Board, and to serve as a forum for discussion of emerging issues regarding the transportation by rail of energy resources, particularly, but not necessarily limited to, coal, ethanol, and other biofuels. The purpose of this meeting is to continue discussions regarding issues such as rail performance, capacity constraints, infrastructure planning and development, and effective coordination among suppliers, carriers, and users of energy resources. Potential agenda items include reports from each of the four RETAC subcommittees (Best Practices, Capacity Planning, Communication, and Performance Measures), a report on the supplemental study recently released by Christensen Associates on rail capacity and infrastructure investment, a briefing on infrastructure implications of economic stimulus legislation, and may include a discussion of the federal legislative agenda on energy issues.

The meeting, which is open to the public, will be conducted pursuant to RETAC's charter and Board procedures. Further communications about this meeting may be announced through the Board's Web site at http://www.stb.dot.gov.

This action will not significantly affect either the quality of the human environment or the conservation of energy resources.

Authority: 49 U.S.C. 721, 49 U.S.C. 11101; 49 U.S.C. 11121.

Decided: May 15, 2009.
By the Board, Anne K. Quinlan, Acting Secretary.
Jeffrey Herzig,
Clearance Clerk.

[FR Doc. E9-11703 Filed 5-19-09; 8:45 am]

BILLING CODE 4915-01-P